FEDERAL COMMUNICATIONS COMMISSION

47 CFR Part 73

[DA 07-2651; MB Docket No. 05-191; RM-11243]

Radio Broadcasting Services; Elberton and Union Point, GA

AGENCY: Federal Communications Commission.

ACTION: Proposed rule; dismissal.

SUMMARY: In response to a Notice of Proposed Rule Making (“Notice”), this Report and Order dismisses a rulemaking petition requesting that Channel 286A, FM Station WEHR, Elberton, Georgia, be upgraded to Channel 286C2 and reallotted to Union Point, Georgia, and the license of Station WEHR be modified accordingly. Georgia-Carolina Radiocasting Company, LLC (“GCR”), the licensee of Station WEHR, requested Commission approval for the withdrawal of its underlying Petition for Rule Making for MB Docket No. 05-191. GCR filed a declaration that neither it nor any of its principals has been offered or received any consideration in connection with the withdrawal of its Petition for Rule Making in this proceeding.

ADDRESSES: Secretary, Federal Communications Commission, 445 12th Street, SW., Room TW-A325, Washington, DC 20554.

FOR FURTHER INFORMATION CONTACT: R. Barthen Gorman, Media Bureau, (202) 418-2180.

SUPPLEMENTARY INFORMATION: This is a synopsis of the Commission's Report and Order, MB Docket No. 05-191, adopted June 13, 2007, and released June 15, 2007. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. This document is not subject to the Congressional Review Act. (The Commission is, therefore, not required to submit a copy of this Report and Order to GAO pursuant to the Congressional Review Act, see 5 U.S.C. 801(a)(1)(A), because the proposed rule is dismissed.)

List of Subjects in 47 CFR Part 73

Radio, Radio broadcasting.

Federal Communications Commission.
John A. Karousos,
Assistant Chief, Audio Division, Media Bureau.

[FR Doc. E7-12860 Filed 7-3-07; 8:45 am]

BILLING CODE 6712-01-P